DEPARTMENT OF TRANSPORTATION

Federal Aviation Administration

14 CFR Part 39

[Docket No. FAA-2018-0760; Product Identifier 2018-NM-095-AD; Amendment 39-19506; AD 2018-24-02]

RIN 2120-AA64

Airworthiness Directives; Dassault Aviation Airplanes

AGENCY: Federal Aviation Administration (FAA), DOT.

ACTION: Final rule.

SUMMARY: We are adopting a new airworthiness directive (AD) for certain Dassault Aviation Model MYSTERE-FALCON 50, MYSTERE-FALCON 900, and FALCON 900EX airplanes. This AD was prompted by reports of cracked reinforcing straps (doublers) on the ailerons of airplanes equipped with blended winglets. This AD requires repetitive detailed inspections for cracking of the upper and lower reinforcing straps on the ailerons, and replacement if necessary. We are issuing this AD to address the unsafe condition on these products.

DATES: This AD is effective January 2, 2019.

The Director of the Federal Register approved the incorporation by reference of certain publications listed in this AD as of January 2, 2019.

ADDRESSES: For service information identified in this final rule, contact Aviation Partners, Inc., 7299 Perimeter Road South, Seattle, WA 98108-3812; phone: 206-762-1171; email: mwilliams@winglets.com; internet: http://www.aviationpartners.com. You may view this service information at the FAA, Transport Standards Branch, 2200 South 216th St., Des Moines, WA. For information on the availability of this material at the FAA, call 206-231-3195. It is also available on the internet at http://www.regulations.gov by searching for and locating Docket No. FAA-2018-0760.

Examining the AD Docket

You may examine the AD docket on the internet at http://www.regulations.gov by searching for and locating Docket No. FAA-2018-0760; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Michael Bumbaugh, Aerospace Engineer, Airframe Section, FAA, Seattle ACO Branch, 2200 South 216th St., Des Moines, WA 98198; phone and fax: 206-231-3522; email: Michael.Bumbaugh@faa.gov.

SUPPLEMENTARY INFORMATION:

Discussion

We issued a notice of proposed rulemaking (NPRM) to amend 14 CFR part 39 by adding an AD that would apply to certain Dassault Aviation Model MYSTERE-FALCON 50, MYSTERE-FALCON 900, and FALCON 900EX airplanes. The NPRM published in the Federal Register on August 24, 2018 (83 FR 42810). The NPRM was prompted by reports of cracked reinforcing straps (doublers) on the ailerons of airplanes equipped with blended winglets. The NPRM proposed to require repetitive detailed inspections for cracking of the upper and lower reinforcing straps on the ailerons, and replacement if necessary.

We are issuing this AD to address cracking of aileron reinforcing straps, which could lead to fatigue cracking of the ailerons and subsequent loss of control of the airplane.

Comments

We gave the public the opportunity to participate in developing this final rule. We have considered the comment received. The commenter, Sean Sullivan, indicated support for the NPRM.

Conclusion

We reviewed the relevant data, considered the comment received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

We reviewed Aviation Partners, Inc., Falcon Service Bulletin SBF9-17-001, Revision B, dated December 20, 2017. This service information describes procedures for detailed inspections for any signs of cracking of the external upper and lower reinforcing straps on the left-hand (LH) and right-hand (RH) ailerons.

We also reviewed Aviation Partners, Inc., Falcon Service Bulletin SBF9-17-002, Revision A, dated December 20, 2017. This service information describes procedures for replacing the external upper and lower reinforcing straps on the LH and RH ailerons.

This service information is reasonably available because the interested parties have access to it through their normal course of business or by the means identified in the ADDRESSES section.

Costs of Compliance

We estimate that this AD affects 70 airplanes of U.S. registry. We estimate the following costs to comply with this AD:

Estimated Costs
Action | Labor cost | Parts cost | Cost per product | Cost on U.S. operators
Repetitive inspections | 1 work-hour × $85 per hour = $85 per inspection cycle | $0 | $85 per inspection cycle | $5,950 per inspection cycle.

Estimated Costs for Optional Actions
Action | Labor cost | Parts cost | Cost per product
Replacement (4 doublers) | 32 work-hours × $85 per hour = $2,720 | $4,540 | $7,260

We estimate the following costs to do any necessary replacements that would be required based on the results of the inspection. We have no way of determining the number of aircraft that might need these replacements:

On-Condition Costs
Action | Labor cost | Parts cost | Cost per product
Replacement (per doubler) | 8 work-hours × $85 per hour = $680 (per doubler) | $1,135 (per doubler) | $1,815 (per doubler).

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-24-02 Dassault Aviation: Amendment 39-19506; Docket No. FAA-2018-0760; Product Identifier 2018-NM-095-AD.

(a) Effective Date

This AD is effective January 2, 2019.

(b) Affected ADs

None.

(c) Applicability

This AD applies to Dassault Aviation Model MYSTERE-FALCON 50, MYSTERE-FALCON 900, and FALCON 900EX airplanes equipped with blended winglets installed in accordance with the supplemental type certificate (STC) specified in paragraph (c)(1) or (c)(2) of this AD, as applicable.

(1) For Model MYSTERE-FALCON 50 airplanes: STC ST02241SE.

(2) For Model MYSTERE-FALCON 900 and FALCON 900EX airplanes: STC ST02188SE.

(d) Subject

Air Transport Association (ATA) of America Code 57, Wings.

(e) Unsafe Condition

This AD was prompted by reports of cracked reinforcing straps (doublers) on the left-hand (LH) and right-hand (RH) ailerons of airplanes equipped with blended winglets. We are issuing this AD to address cracking of aileron reinforcing straps, which could lead to fatigue cracking of the ailerons and subsequent loss of control of the airplane.

(f) Compliance

Comply with this AD within the compliance times specified, unless already done.

(g) Repetitive Inspections and Corrective Action

Within 8 months or 400 flight hours (FH), whichever occurs first, after the effective date of this AD, and thereafter at intervals not to exceed 8 months or 400 FH, whichever occurs first: Do a detailed inspection for cracking of the upper and lower reinforcing straps of the LH and RH ailerons, in accordance with the Accomplishment Instructions of Aviation Partners, Inc., Falcon Service Bulletin SBF9-17-001, Revision B, dated December 20, 2017. If any cracked aileron reinforcing strap is found, before further flight: Replace the reinforcing strap with a new part, in accordance with the Accomplishment Instructions of Aviation Partners, Inc., Falcon Service Bulletin SBF9-17-002, Revision A, dated December 20, 2017.

(h) Terminating Action for Repetitive Inspections

Replacement of any aileron reinforcing strap with a new part, in accordance with the Accomplishment Instructions of Aviation Partners, Inc., Falcon Service Bulletin SBF9-17-002, Revision A, dated December 20, 2017, constitutes terminating action for the repetitive inspections required by paragraph (g) of this AD for that part only.

(i) Credit for Previous Actions

(1) This paragraph provides credit for the inspections specified in paragraph (g) of this AD, if those actions were performed before the effective date of this AD using Aviation Partners, Inc., Falcon Service Bulletin SBF9-17-001, dated March 3, 2017; or Aviation Partners, Inc., Falcon Service Bulletin SBF9-17-001, Revision A, dated April 4, 2017.

(2) This paragraph provides credit for the replacement specified in paragraphs (g) and (h) of this AD, if those actions were performed before the effective date of this AD using Aviation Partners, Inc., Falcon Service Bulletin SBF9-17-002, dated March 7, 2017.

(j) No Reporting Requirement and No Parts Return

(1) Although Aviation Partners, Inc., Falcon Service Bulletin SBF9-17-001, Revision B, dated December 20, 2017; and Aviation Partners, Inc., Falcon Service Bulletin SBF9-17-002, Revision A, dated December 20, 2017; specify to submit certain information to the manufacturer, this AD does not include that requirement.

(2) Although Aviation Partners, Inc., Falcon Service Bulletin SBF9-17-002, Revision A, dated December 20, 2017, specifies salvaging and returning a damaged strap to Aviation Partners, Inc., this AD does not include that requirement.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(l) Related Information

(1) For more information about this AD, contact Michael Bumbaugh, Aerospace Engineer, Airframe Section, FAA, Seattle ACO Branch, 2200 South 216th St., Des Moines, WA 98198; phone and fax: 206-231-3522; email: Michael.Bumbaugh@faa.gov.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aviation Partners, Inc., Falcon Service Bulletin SBF9-17-001, Revision B, dated December 20, 2017.

(ii) Aviation Partners, Inc., Falcon Service Bulletin SBF9-17-002, Revision A, dated December 20, 2017.

(3) For service information identified in this AD, contact Aviation Partners, Inc., 7299 Perimeter Road South, Seattle, WA 98108-3812; phone: 206-762-1171; email: mwilliams@winglets.com; internet: http://www.aviationpartners.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on November 15, 2018.
Dionne Palermo,
Acting Director, System Oversight Division, Aircraft Certification Service.

[FR Doc. 2018-25661 Filed 11-26-18; 8:45 am]

BILLING CODE 4910-13-P